DEPARTMENT OF HEALTH AND HUMAN SERVICES

National Institutes of Health

Request for Information, Strategic Opportunities and Challenges for the National Library of Medicine, National Institutes of Health

AGENCY: National Institutes of Health, Health and Human Services (HHS).

ACTION: Notice.

SUMMARY: The purpose of this Request for Information (RFI) is to solicit public comment to assist and guide the National Library of Medicine (NLM) in identifying new, and updating ongoing, efforts to implement the NLM Strategic Plan 2017-2027: A Platform for Biomedical Discovery and Data-Powered Health.

DATES: Comments must be received on or before (5:00 p.m. ET) October 19, 2020 to ensure consideration.

ADDRESSES: Comments to this RFI must be submitted electronically using the web-based form at: https://rfi.grants.nih.gov/?s=5f15a5e3104800009c001082.

FOR FURTHER INFORMATION CONTACT: Leigh Samsel, MS, NLM Planning and Evaluation Officer, Office of Strategic Initiatives, National Library of Medicine, 8600 Rockville Pike, Building 38, Rm 2S-14, Bethesda, MD 20894, samsell@nih.gov, 301-451-0162. Inquiries should be sent to NLMStrategicPlanning@nih.gov.

SUPPLEMENTARY INFORMATION:

Background

The National Library of Medicine (NLM) is one of the 27 Institutes and Centers of the National Institutes of Health (NIH) and the world's largest biomedical library. Like other NIH Institutes and Centers, NLM supports and conducts research and research training relevant to its mission; for NLM, this includes information science, informatics, data analytics, and data science to advance computational biology and computational health science. Research is conducted intramurally in the NLM National Center for Biotechnology Information (NCBI) and Lister Hill National Center for Biomedical Communications (LHNCBC) and is supported extramurally through the Division of Extramural Programs.

As a national library, NLM is steward of a world-renowned collection of medical materials spanning ten centuries and originating from nearly every part of the globe, and it supports, promotes, and advances open science and scholarship through development and stewardship of integrated standards, tools, platforms, practices, policies, and resources that make biomedical information (including literature, research data, software tools, etc.) findable, accessible, interoperable, and reusable to the world. Library functions are conducted by the Division of Library Operations, and are also integrated with the world-class digital platforms, resources, assets, and expertise of NCBI and LHNCBC.

This notice is in accordance with the 21st Century Cures Act, NIH Institutes are required to regularly update their strategic plans. The current NLM Strategic Plan for 2017—2027: A Platform for Biomedical Discovery and Data-Powered Health, was written in 2016 with input from many diverse stakeholder communities. Since then, many dozens of initiatives, projects, and other activities have been conducted to address the objectives of the Plan. Also, since then, significant changes have taken place in NLM mission-space in terms of science, technology, public health, library functions, scholarly communication, stakeholder perspectives, policies, workforce, and more. These include an urgent focus on understanding a novel coronavirus and the disease it causes; an increased prominence of artificial intelligence in biomedical research and library functions; new policies reflecting the embrace of open science by governments, funders, publishers, scientists, and the public at large; issuance of the NIH Strategic Plan for Data Science; an accelerating use of social media and preprints by researchers to disseminate their findings; and an increasing need for data-savvy scientists and a data-ready public to make the most of digital assets to improve biomedical understanding and health.

Information Requested

NLM is requesting public comment on major opportunities or challenges relevant to the NLM mission that have arisen or become more important in the last five years and that have implications for the future of NLM in its capacity both as an institution conducting and supporting research and as a national library providing biomedical information products, services, training, capacity-building, and other resources to the world. This information will be used to guide NLM's continuing implementation of its strategic plan. Response to this RFI is voluntary. Respondents are free to address any or all topics listed below and are encouraged for each topic addressed to describe the opportunity or challenge and how NLM might address it.

1. Major opportunities or challenges that have emerged over the last five years and that have implications for the future of NLM in the area of:

a. Science (including clinical health sciences, biomedical science, information science, informatics, data analytics, data science, etc.)

b. Technology (including biotechnology, platforms, hardware, software, algorithms, processes, systems, etc.)

c. Public health, consumer health, and outreach (including epidemic disease surveillance, culturally competent engagement, optimizing the experience of resource users, etc.)

d. Library functions (including collection development, access, preservation, indexing, library metadata, service agreements with other libraries, etc.)

e. Modes of scholarly communication (including researchers' use of social media, preprints, living papers, changes in the roles and practices of publishers, data-driven approaches to studying historical medical texts, images, and datasets, etc.)

f. Perspectives, practices, and policies (including those related to open science, the need for diversity, equity, and inclusion in research, algorithmic bias, expectations of reproducibility of research, etc.)

g. Workforce needs (including data science competencies, effective strategies for recruitment and retention of underrepresented minorities, opportunities for training and continuing education for middle- and late-career researchers and librarians, etc.)

2. Major opportunities or challenges that have emerged in the last five years and that have implications for the future of NLM in other areas or areas not well captured above.

3. Opportunities or challenges on the horizon over the next five years that fall within the purview of the NLM's mission.

Submitting a Response

For consideration, your comments must be received on or before (5:00 p.m. ET) October 19, 2020 to ensure consideration. Please include: (1) The name, (2) organizational affiliation of the commenter, and (3) the role the commenter plays at that organization (e.g., librarian, healthcare provider, scientist, student, etc.). Comments to this RFI must be submitted electronically using the web-based form at: https://rfi.grants.nih.gov/?s=5f15a5e3104800009c001082.

NLM will use the information submitted in response to this RFI at its discretion and will neither provide responses to nor acknowledge receipt of the submissions. The information provided will be analyzed and may be shared publicly or appear in reports without the name or affiliation of the commenter. No proprietary, classified, confidential, or sensitive information should be included in your response. The Government reserves the right to use any non-proprietary technical information in any resultant summaries of the state-of-the-science or solicitation(s). This RFI is for information and planning purposes only and shall not be construed as a solicitation, grant, or cooperative agreement, or as an obligation on the part of the Federal Government, the NIH, or individual NIH Institutes and Centers to provide support for any ideas identified in response to it.

The Government will not pay for the preparation of any information submitted or for the Government's use of such information. No basis for claims against the U.S. Government shall arise as a result of a response to this request for information or from the Government's use of such information.

Dated: August 17, 2020.
Todd D. Danielson,
Associate Director for Administrative Management and Executive Officer, National Library of Medicine, National Institutes of Health.

[FR Doc. 2020-18346 Filed 8-20-20; 8:45 am]

BILLING CODE 4140-01-P